DEPARTMENT OF HEALTH AND HUMAN SERVICES

National Institutes of Health

National Institute on Drug Abuse; Amended Notice of Meeting

Notice is hereby given of a change in the meeting of the National Institute on Drug Abuse Special Emphasis Panel, February 1, 2008, 1 p.m. to February 1, 2008, 5 p.m., National Institutes of Health, 6101 Executive Boulevard, Rockville, MD 20852 which was published in the Federal Register on January 9, 2008, Volume 73, Number 6.

The date of the meeting was changed to February 22, 2008. The meeting is closed to the public.

Dated: January 15, 2008.
Jennifer Spaeth,
Director, Office of Federal Advisory Committee Policy.

[FR Doc. 08-221 Filed 1-22-08; 8:45 am]

BILLING CODE 4140-01-M